ENVIRONMENTAL PROTECTION AGENCY

[FRL-7046-7]

EPA Science Advisory Board; Notification of Public Advisory Committee Meeting

Stage 2 Disinfectants and Disinfection Byproduct Rule Review (S2DBP) and the Long Term 2 Enhanced Surface Water Treatment Rule Review (LT2R)

Action—Notification of a meeting to initiate the EPA Science Advisory Board (SAB) review of elements associated with EPA's proposed rules on the: 1) Stage 2 Disinfectants and Disinfection Byproducts Rule (S2DBPR) and (2) the Long Term 2 Enhanced Surface Water Treatment Rule (LT2ESWTR).

Drinking Water Committee Meeting—Background and Approach

Pursuant to the Federal Advisory Committee Act, Public Law 92-463, notice is hereby given that the Drinking Water Committee of the EPA Science Advisory Board (SAB) will meet on September 25 and 26, 2001. The meeting will be held in EPA's Ariel Rios Building, 1200 Pennsylvania Avenue, NW, Washington, DC. On September 25th, the meeting will be held in Room 6530 of Ariel Rios Building (North side) from 8:30 am until 5:00 pm. On September 26th, the meeting will be held in Room 6013 of the Ariel Rios Building from 8:30 am until noon. All times noted are Eastern Daylight Savings Time. The meeting is open to the public; however, seating is limited and available on a first come basis. Important Notice: Documents that are the subject of SAB reviews are normally available from the originating EPA office and are not available from the SAB Office—information concerning availability of documents from the relevant Program Office is included below.

Background Information—The U.S. Environmental Protection Agency (EPA) Science Advisory Board (SAB) is announcing the initiation of two reviews for the EPA Office of Water (OW). These reviews are mandated by Section 1412(e) of the Safe Drinking Water Act (SDWA as amended in August 1996) which states:

The Administrator shall request comments from the Science Advisory Board (established under the Environmental Research, Development, and Demonstration Act of 1978) prior to proposal of a maximum contaminant level goal and national primary drinking water regulation. The Board shall respond, as it deems appropriate, within the time period applicable for promulgation of the national primary drinking water standard concerned. This subsection shall, under no circumstances, be used to delay final promulgation of any national primary drinking water standard.

The EPA Science Advisory Board was established to provide independent scientific and technical advice, consultation, and recommendations to the EPA Administrator on the technical bases for EPA regulations. In this sense, the Board functions as a technical peer review panel.

In the discussion below, we provide information on the charge that has been given to the Science Advisory Board and a summary of the background for each proposal.

1. Long Term 2 Enhanced Surface Water Treatment Rule

(a) General Information: The Safe Drinking Water Act requires EPA to develop National Primary Drinking Water Regulations for contaminants which have an adverse effect on the health of persons and where regulation provides a meaningful opportunity for public health protection. EPA is developing a Long Term 2 Enhanced Surface Water Treatment Rule to provide for increased protection of public water systems against microbial pathogens, with a specific focus on Cryptosporidium. The intent of the proposed LT2ESWTR is to supplement existing surface water treatment rules through establishment of targeted treatment requirements for systems with greater vulnerability to Cryptosporidium. Such systems include those with high source water pathogen levels and those that do not provide filtration. In addition, consistent with SDWA requirements for risk balancing, EPA will propose and finalize the LT2ESWTR simultaneously with the Stage 2 Disinfectants and Disinfection Byproducts Rule. This coordinated approach is designed to ensure that systems maintain adequate microbial protection while reducing risk from disinfection byproducts. A Federal Stakeholder Advisory Committee reached an Agreement in Principle during September 2000 with recommendations for both rules (65 FR 83015-83024).

(b) Charge—Long Term 2 Enhanced Surface Water Treatment Rule: EPA requests SAB comment on the following parts of the Agency's LT2ESWTR proposal and supporting documents: (1) The analysis of Cryptosporidium occurrence; (2) the pre- and post-LT2ESWTR Cryptosporidium risk assessment; and (3) the treatment credits for microbial toolbox options.

2. Stage 2 Disinfectants and Disinfection Byproduct Rule Proposal

(a) General Information: The 1996 Amendments to the Safe Drinking Water Act require EPA to promulgate a Stage 2 Disinfectants and Disinfection Byproducts Rule (Section 1412(b)(2)(C)) by May 2002. The intent of the proposed S2DBPR is to reduce the variability of exposure to disinfection byproducts (DBPs) for people served by different points in the distribution systems of public water supplies. EPA believes that this decreased exposure will result in reduced risk from reproductive and developmental health effects and cancer. EPA is required under the Safe Drinking Water Act to promulgate the rule as the second part of a staged set of regulations addressing DBPs. Consistent with SDWA requirements for risk balancing, EPA will propose and finalize the Long Term 2 Enhanced Surface Water Treatment Rule (LT2ESWTR) at the same time as the Stage 2 DBP Rule in order to ensure parallel protection from microbial and DBP risks. A Federal Stakeholder Advisory Committee reached an Agreement in Principle in September 2000 with recommendations for both proposed rules (65 FR 83015-83024).

(b) Charge—Stage 2 Disinfectants and Disinfection Byproduct Rule Proposal: EPA requests SAB comment on (1) whether the locational running annual average (LRAA) standards for total trihalomethanes (TTHMs) and haloacetic acids (HAA5), in conjunction with the initial distribution system evaluation (IDSE) of the proposed Stage 2 DBPR, more effectively achieves public health protection than the current running annual average (RAA) standards, given the existing knowledge of DBP occurrence and the available health effects data, and (2) whether the IDSE is capable of identifying new compliance monitoring points that target high TTHM and HAA5 levels and whether it is the most appropriate tool available to achieve this objective.

Process to be followed by the SAB for this Review: (a) The review of these two proposals will take place over two meetings. The first, on September 25-26, 2001, will initiate the review. In this meeting, the Drinking Water Committee, augmented by a small number of persons to add disciplinary expertise in public health, epidemiology, drinking water treatment, and statistical analysis, will be briefed by EPA representatives on the nature of the issue, the extent of the charge, and the context for the proposed rule and the review. Then, the Committee and the Agency will explore the issue from the standpoint of acceptability of the charge, completeness of the background material provided by the Agency, the need for additional expertise for the Committee to be able to respond to the charge, and clarifications necessary on issues identified by the Committee. Finally, the Committee will begin its discussions of each rule with the intent of formulating a plan of action to be accomplished to guide the remainder of the review.

A second meeting will be scheduled in November or December in order to allow the DWC to fully evaluate and discuss the issues and charge and to draft its recommendations to the Administrator of EPA.

(b) Panel Development: The SAB Panel for this review consists of the membership of the DWC, augmented by experts in the following areas: a) public health, b) epidemiology, c) drinking water treatment for microbial contamination, and d) statistical techniques for the determination of the occurrence of microbes in drinking water. The names of members of the Panel for the September 25-26 meeting will be posted on the SAB Website at www.epa.gov/sab by the close of business on September 15, 2001. During its September meeting the Panel will discuss the need for additional persons to provide expertise and/or balance. Members of the public wishing to comment on the composition and balance of the /panel and/or wishing to suggest persons to be added to the Panel for the second meeting in November or December should send those comments by mail to Mr. Thomas O. Miller, Designated Federal Officer, SAB Drinking Water Committee (1400A), 1200 Pennsylvania Ave., NW, Washington, DC, 20460; by email at miller.tom@epa.gov, or by Fax at (202) 501-0582. These comments should be sent so that they are received at the SAB no later than October 12, 2001. Nominations for additions to the Panel should be identified by name, expertise (see the four areas of expertise listed above), occupation, position, address, email address, and telephone number. In addition, a nomination should contain a short discussion of why the candidate should be added to the Panel. The nomination should also include a current resume (preferably in electronic format) that provides details on the nominee's background, experience and qualifications to address the issues before the Panel. These comments and suggestions will be considered in the SAB's decision on the final makeup of the review Panel for the November/December meeting. The final list of names for the SAB members and consultants serving on the Panel will be posted on the SAB website by October 19, 2001.

This clarification of and invitation for public input to the SAB panel selection process is an attempt to explore and respond to recommendations in a recent report from the General Accounting Office (GAO) on the operations of the Office of the Science Advisory Board (GAO Report #GAO-01-531; see GAO Website: www.gao.gov).

For Further Information—Any member of the public wishing further information concerning this meeting should contact Mr. Thomas O. Miller, Designated Federal Officer, SAB Drinking Water Committee as stated above. For a copy of the draft meeting agenda, please contact Ms. Wanda Fields, Management Assistant at (202) 564-4539, FAX at (202) 501-0582, or email at: fields.wanda@epa.gov.

Materials that are the subject of this review are available on the EPA Website as noted in the section on the Charge above or from: a) Stage 2 DBPs, Ms. Mary Manibusan, US EPA Office of Water (OW) (MS 4607), 1200 Pennsylvania Ave., NW, Washington, DC 20460, Phone: (202) 260-3688 or via email at manibusan.mary@epa.gov; and b) LT2, Mr. Dan Schmelling, US EPA Office of Water (OW) (MS 4607), 1200 Pennsylvania Ave., NW, Washington, DC 20460, Phone: (202) 260-1439 or via email at schmelling@epa.gov.

Providing Oral or Written Comments at SAB Meetings

It is the policy of the EPA Science Advisory Board to accept written public comments of any length, and to accommodate oral public comments whenever possible. The EPA Science Advisory Board expects that public statements presented at its meetings will not be repetitive of previously submitted oral or written statements.

Oral Comments: In general, each individual or group wishing to make a brief oral presentation to the Panel must contact Mr. Thomas Miller, DFO for the DWC, no later than noon Eastern Time, Tuesday, September 18, 2001 in order to be included on the agenda. The request should identify the name of the individual who will make the presentation, the organization (if any) they will represent, and any requirements for audio visual equipment (e.g., overhead projector, 35 mm projector, chalkboard, etc.). Presentations at face-to-face meeting will be limited to a total time of five minutes per speaker. For teleconference meetings, opportunities for oral comment will usually be limited to no more than three minutes per speaker and no more than fifteen minutes total for all speakers together. Speakers should provide to the SAB Staff Office, at least one week prior to the meeting date, a) one signed hard copy of the comments for the file and b) an electronic version of the comments [acceptable file format: WordPerfect, Word, or Rich Text files (in IBM-PC/Windows 95/98 format)]. In addition, the speaker should bring to the meeting at least 35 copies of their comments and presentation slides for distribution to the reviewers and public at the meeting.

Written Comments: Although the SAB accepts written comments until the date of the meeting (unless otherwise stated), written comments should be received in the SAB Staff Office at least one week prior to the meeting date so that the comments may be made available to the committee for their consideration. Comments should be supplied to Mr. Miller (see contact information above) in the following formats: one hard copy with original signature, and one electronic copy via e-mail [acceptable file format: WordPerfect, Word, or Rich Text files (in IBM-PC/Windows 95/98 format)]. Those providing written comments and who attend the meeting are also asked to bring 35 copies of their comments for public distribution.

Meeting Access—Individuals requiring special accommodation at these meetings, including wheelchair access to the conference room, should contact Mr. Miller at least five business days prior to the relevant meeting so that appropriate arrangements can be made.

Dated: August 21, 2001.
Donald G. Barnes,
Staff Director, EPA Science Advisory Board.

[FR Doc. 01-21811 Filed 8-28-01; 8:45 am]

BILLING CODE 6560-50-P